DEPARTMENT OF VETERANS AFFAIRS

38 CFR Part 17

RIN 2900-AK01

Compensated Work Therapy/Transitional Residences Program; Correction

AGENCY: Department of Veterans Affairs.

ACTION: Final rule; technical amendment.

SUMMARY: The Department of Veterans Affairs (VA) is reinstating regulations that were inadvertently removed by a previous rulemaking. This final rule technical amendment corrects that error and restores the missing regulations.

DATES: Effective Date: This technical amendment is effective May 24, 2005.

Applicability Date: September 17, 2002.

FOR FURTHER INFORMATION CONTACT: Richard R. Robinson, Deputy Assistant General Counsel, Office of the General Counsel (023B), Department of Veterans Affairs, 810 Vermont Avenue, NW., Washington, DC 20420, 202.273.6334 (this is not a toll-free number).

SUPPLEMENTARY INFORMATION: On January 31, 2002, VA published a final rule in the Federal Register (67 FR 4667) amending 38 CFR part 17 to establish provisions regarding housing under the Compensated Work Therapy/Transitional Residences program (CWT). VA did this by redesignating the existing § 17.49 (Priorities for inpatient care) as § 17.48, and by adding a new § 17.49, Compensated Work Therapy/Transitional Residences program. Subsequently, on September 17, 2002, VA published an interim final rule in the Federal Register (67 FR 58528) to establish priorities for outpatient medical services and inpatient hospital care. In doing so, VA failed to consider the previous, January 31, 2002, amendment redesignating old § 17.49 as new § 17.48 and adding a new § 17.49. As a result, VA mistakenly instructed the CFR editor to revise § 17.49 instead of § 17.48. Consequently, the revision to § 17.49 erroneously removed the CWT rule and replaced it with the revised priority rule. In the CFR, the old priority rule (entitled “Priorities for inpatient care”) is in § 17.48; the new priority rule (entitled “Priorities for outpatient medical services and inpatient hospital care”) is in § 17.49; and the CWT rule was removed. To correct the inadvertent removal of the CWT rule, this final rule technical amendment revises 38 CFR 17.48 to reinstate the CWT rule originally published as a final rule in the Federal Register on January 31, 2002, at § 17.49.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: May 18, 2005.
Robert C. McFetridge,
Director, Regulations Management.

For the reasons set out above, 38 CFR part 17 is corrected as follows:

PART 17—MEDICAL

1. The authority citation for part 17 continues to read as follows:

Authority: 38 U.S.C. 501, 1721, unless otherwise noted.

2. Section 17.48 is revised to read as follows:

§ 17.48 Compensated Work Therapy/Transitional Residences program.

(a) This section sets forth requirements for persons residing in housing under the Compensated Work Therapy/Transitional Residences program.

(b) House managers shall be responsible for coordinating and supervising the day-to-day operations of the facilities. The local VA program coordinator shall select each house manager and may give preference to an individual who is a current or past resident of the facility or the program. A house manager must have the following qualifications:

(1) A stable, responsible and caring demeanor;

(2) Leadership qualities including the ability to motivate;

(3) Effective communication skills including the ability to interact;

(4) A willingness to accept feedback;

(5) A willingness to follow a chain of command.

(c) Each resident admitted to the Transitional Residence, except for a house manager, must also be in the Compensated Work Therapy program.

(d) Each resident, except for a house manager, must bi-weekly, in advance, pay a fee to VA for living in the housing. The local VA program coordinator will establish the fee for each resident in accordance with the provisions of paragraph (d)(1) of this section.

(1) The total amount of actual operating expenses of the residence (utilities, maintenance, furnishings, appliances, service equipment, all other operating costs) for the previous fiscal year plus 15 percent of that amount equals the total operating budget for the current fiscal year. The total operating budget is to be divided by the average number of beds occupied during the previous fiscal year and the resulting amount is the average yearly amount per bed. The bi-weekly fee shall equal 1/26th of the average yearly amount per bed, except that a resident shall not, on average, pay more than 30 percent of their gross CWT (Compensated Work Therapy) bi-weekly earnings. The VA program manager shall, bi-annually, conduct a review of the factors in this paragraph for determining resident payments. If he or she determines that the payments are too high or too low by more than 5 percent of the total operating budget, he or she shall recalculate resident payments under the criteria set forth in this paragraph, except that the calculations shall be based on the current fiscal year (actual amounts for the elapsed portion and projected amounts for the remainder).

(2) If the revenues of a residence do not meet the expenses of the residence resulting in an inability to pay actual operating expenses, the medical center of jurisdiction shall provide the funds necessary to return the residence to fiscal solvency in accordance with the provisions of this section.

(e) The length of stay in housing under the Compensated Work Therapy/Transitional Residences program is based on the individual needs of each resident, as determined by consensus of the resident and his/her VA Clinical Treatment team. However, the length of stay should not exceed 12 months.

Authority: 38 U.S.C. 1772.

[FR Doc. 05-10288 Filed 5-23-05; 8:45 am]

BILLING CODE 8320-01-P